DEPARTMENT OF THE INTERIOR

Fish and Wildlife Service

50 CFR Part 17

[Docket No. FWS-HQ-ES-2021-0073; FF09E21000 FXES1111090FEDR 223]

RIN 1018-BF34

Endangered and Threatened Wildlife and Plants; Endangered Species Status for Russian, Ship, Persian, and Stellate Sturgeon

AGENCY: Fish and Wildlife Service, Interior.

ACTION: Proposed rule; extension of public comment period and announcement of public hearing.

SUMMARY: We, the U.S. Fish and Wildlife Service (Service), are extending the public comment period on our May 25, 2022, proposed rule to list the Russian sturgeon (Acipenser gueldenstaedtii), ship sturgeon (A. nudiventris), Persian sturgeon (A. persicus), and stellate sturgeon (A. stellatus), all large fish native to the Black, Azov, Aral, Caspian, and northern Aegean Sea basins and their rivers in Europe and western Asia, as endangered species under the Endangered Species Act of 1973, as amended (Act). We are extending the proposed rule's comment period for 30 days to conduct a public hearing on the petition to list these four species of sturgeon. Comments previously submitted need not be resubmitted and will be fully considered in preparation of the final rule.

DATES: Comment submission: The public comment period on the proposed rule that published on May 25, 2022, at 87 FR 31834 is extended. We will accept comments received or postmarked on or before August 25, 2022. Comments submitted electronically using the Federal eRulemaking Portal (see ADDRESSES, below) must be received by 11:59 p.m. Eastern Time on the closing date, and comments submitted by U.S. mail must be postmarked by that date to ensure consideration.

Public hearing: On August 11, 2022, we will hold a public hearing on the proposed rule to list the Russian sturgeon, ship sturgeon, Persian sturgeon, and stellate sturgeon under the Act from 6 to 7:30 p.m. Eastern Time, using the Zoom platform (for more information, see Public Hearing, below).

ADDRESSES: Written comments: You may submit comments by one of the following methods:

(1) Electronically: Go to the Federal eRulemaking Portal: https://www.regulations.gov. In the Search box, enter FWS-HQ-ES-2021-0073, which is the docket number for this rulemaking. Then, click on the Search button. On the resulting page, in the Search panel on the left side of the screen, under the Document Type heading, check the Proposed Rule box to locate this document. You may submit a comment by clicking on “Comment.”

(2) By hard copy: Submit by U.S. mail to: Public Comments Processing, Attn: FWS-HQ-ES-2021-0073, U.S. Fish and Wildlife Service, MS: PRB/3W, 5275 Leesburg Pike, Falls Church, VA 22041-3803.

We request that you send comments only by the methods described above. We will post all comments on https://www.regulations.gov. This generally means that we will post any personal information you provide us (see Public Comments, below, for more information).

Document availability: The proposed rule and supporting documents, including the species status assessment report, are available at https://www.regulations.gov under Docket No. FWS-HQ-ES-2021-0073.

Public hearing: Interested parties may present verbal testimony (formal, oral comments) at a public hearing, which will be held virtually using the Zoom platform. See Public Hearing, below, for more information.

FOR FURTHER INFORMATION CONTACT: Elizabeth Maclin, Chief, Branch of Delisting and Foreign Species, Ecological Services, U.S. Fish and Wildlife Service, MS: ES, 5275 Leesburg Pike, Falls Church, VA 22041-3803; telephone, 703-358-2171. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

On May 25, 2022, we published a proposed rule (87 FR 31834) to list the Russian sturgeon, ship sturgeon, Persian sturgeon, and stellate sturgeon as endangered species under the Endangered Species Act of 1973, as amended (16 U.S.C. 1531 et seq.). The proposed rule opened a 60-day public comment period, ending July 25, 2022. On June 10, 2022, we received a request for a public hearing on the proposed rule. With this document, we are announcing a public hearing and an extension of the comment period for an additional 30 days (see DATES, above) to allow the public further opportunity to provide comments on the proposed rule to list the Russian sturgeon, ship sturgeon, Persian sturgeon, and stellate sturgeon.

For a description of previous Federal actions concerning the Russian sturgeon, ship sturgeon, Persian sturgeon, and stellate sturgeon and information on the types of comments that would be helpful to us in promulgating this rulemaking action, please refer to the May 25, 2022, proposed rule (87 FR 31834).

Public Hearing

We are holding a public hearing to accept comments on the proposed rule to list the Russian sturgeon, ship sturgeon, Persian sturgeon, and stellate sturgeon on the date and at the time listed in DATES. We are holding the public hearing via the Zoom online video platform and via teleconference so that participants can attend remotely. For security purposes, registration is required. All participants must register in order to listen and view the hearing via Zoom, listen to the hearing by telephone, or provide oral public comments at the hearing by Zoom or telephone. For information on how to register, or if technical problems occur joining Zoom on the day of the hearing, visit https://www.fws.gov/event/public-hearing-proposed-listing-ponto-caspian-sturgeon.

Registrants will receive the Zoom link and the telephone number for the public hearing. If applicable, interested members of the public not familiar with the Zoom platform should view the Zoom video tutorials (https://support.zoom.us/hc/en-us/articles/206618765-Zoom-video-tutorials) prior to the public hearing.

The public hearing will provide interested parties an opportunity to present verbal testimony (formal, oral comments) regarding the May 25, 2022, proposed rule to list the Russian sturgeon, ship sturgeon, Persian sturgeon, and stellate sturgeon as endangered species (87 FR 31834). The public hearing will not be an opportunity for dialogue with the Service, but rather a forum for accepting formal verbal testimony. In the event there is a large attendance, the time allotted for oral statements may be limited. Therefore, anyone wishing to make an oral statement at the public hearing for the record is encouraged to provide a prepared written copy of their statement to us through the Federal eRulemaking Portal or U.S. mail (see ADDRESSES, above). There are no limits on the length of written comments submitted to us. Anyone wishing to make an oral statement at the public hearing must register before the hearing (https://www.fws.gov/event/public-hearing-proposed-listing-ponto-caspian-sturgeon). The use of a virtual public hearing is consistent with our regulations at 50 CFR 424.16(c)(3).

Reasonable Accommodation

The Service is committed to providing access to the public hearing for all participants. Closed captioning will be available during the public hearing. Further, a full audio and video recording and transcript of the public hearing will be posted online at https://www.fws.gov/event/public-hearing-proposed-listing-ponto-caspian-sturgeon after the hearing. Participants will also have access to live audio during the public hearing via their telephone or computer speakers. Persons with disabilities requiring reasonable accommodations to participate in the hearing should contact the person listed under FOR FURTHER INFORMATION CONTACT at least 5 business days prior to the date of the hearing to help ensure availability. An accessible version of the Service's public hearing presentation will also be posted online at https://www.fws.gov/event/public-hearing-proposed-listing-ponto-caspian-sturgeon following the hearing (see DATES, above). See https://www.fws.gov/event/public-hearing-proposed-listing-ponto-caspian-sturgeon for more information about reasonable accommodation.

Public Comments

If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing the proposed rule, will be available for public inspection on https://www.regulations.gov.

Authors

The primary authors of this document are the staff members of the Branch of Delisting and Foreign Species, Ecological Services Program.

Authority

The authority for this action is the Endangered Species Act of 1973, as amended (16 U.S.C. 1531 et seq.).

Martha Williams,
Director, U.S. Fish and Wildlife Service.

[FR Doc. 2022-14731 Filed 7-19-22; 8:45 am]

BILLING CODE 4333-15-P